DEPARTMENT OF ENERGY

Federal Energy Regulatory Commission

[Docket Nos. RM07-16-000; RM01-5-000; and RM12-3-000]

Revised Company Registration System

AGENCY: Federal Energy Regulatory Commission.

ACTION: Notice.

SUMMARY: This document revises the effective date of the Revised Company Registration System. The Commission issued a previous notice in the Federal Register, 78 FR 44559 (July 24, 2013), with an effective date of August 5, 2013.

DATES: Effective August 12, 2013.

For more information, please contact:

For legal issues: Nicholas Gladd, Office of the General Counsel, Federal Energy Regulatory Commission, 888 First Street NE., Washington, DC 20426, (202) 502-8836, Nicholas.Gladd@ferc.gov. For technical issues: Anthony Barracchini, Office of the Executive Director, Federal Energy Regulatory Commission, 888 First Street NE., Washington, DC 20426, 202-502-8940, anthony.barracchini@ferc.gov.

SUPPLEMENTARY INFORMATION: Notice Regarding Effective Date

On February 7, 2013, the Commission issued an order in Docket No. RM07-16-000, et al. (February 7, 2013 Order) directing revisions to the Company Registration system.¹ On July 17, 2013, the Commission issued a notice stating that the revised Company Registration system would be effective on August 5, 2013. However, the information collection requirements in the February 7, 2013 Order have not received clearance from the Office of Management and Budget (OMB). Take notice that the effective date for the revised Company Registration system is changed to August 12, 2013.

¹ Revisions to Company Registration and Establishing Technical Conference, 142 FERC ¶ 61,097 (2013).

Dated: August 2, 2013.
Kimberly D. Bose,
Secretary.

[FR Doc. 2013-19292 Filed 8-8-13; 8:45 am]

BILLING CODE 6717-01-P